DEPARTMENT OF LABOR

Office of the Secretary

Submission for OMB Review: Comment Request

April 2, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: New collection (Request for a new OMB Control Number).

Title of Collection: Workforce Innovation in Regional Economic Development (WIRED) Initiative Evaluation.

OMB Control Number: 1205-0NEW.

Agency Form Numbers: N/A.

Affected Public: State, Local and Tribal Governments and Private Sector (Businesses or other For-Profits, Not for Profit Institutions).

Estimated Number of Respondents: 1,993.

Total Estimated Annual Burden Hours: 1,416.

Estimated Annual Costs Burden (excludes burden hour costs): $0.

Description: This inquiry covers qualitative information to be obtained through a survey of key partners and stakeholders in Workforce Innovation in Regional Economic Development's (WIRED) regional transformation efforts. The data collection will gather information about the nature of regional leaders and their organizations' roles and relationships in the evolving collaborative partnerships. It will also provide information about their efforts to achieve regional transformation of workforce development, economic development and related education systems during the period of the Initiative.

The second administration of the data collection, approximately six months after Federal funding ends for WIRED, will be to assess sustainability efforts to work collaboratively to achieve regional transformation, and to reveal whether these substantial investments successfully inspired continued efforts to promote integration of regional systems to further talent development. For additional information, see related notice published at Volume 73 FR 59672 on October 9, 2008.

Darrin A. King,
Departmental Clearance Officer.

[FR Doc. E9-8190 Filed 4-9-09; 8:45 am]

BILLING CODE 4510-FN-P